DEPARTMENT OF JUSTICE

Notice of Lodging of Proposed Consent Decree Under the Clean Water Act

Notice is hereby given that, for a period of 30 days, the United States will receive public comments on a proposed Consent Decree in United States v. Superior Crude Gathering, Inc. (Civil Action No. 2:14-cv-0433), which was lodged with the United States District Court for the Southern District of Texas on October 29, 2014.

The Complaint was filed on the same day and seeks civil penalties under Section 311 of the Clean Water Act related to the unauthorized discharge of oil from two crude oil storage tanks at the Superior Crude storage facility in Ingleside, Texas and for violations of spill prevention and planning regulations. Superior Crude has ceased operations at the facility, which is located at the former Falcon Refinery. Under the settlement, Superior Crude will pay a $1.61 million civil penalty for violation of the Clean Water Act.

The publication of this notice opens a period for public comment on the proposed Consent Decree. Comments should be addressed to the Assistant Attorney General, Environment and Natural Resources Division, and should refer to United States v. Superior Crude Gathering, Inc. (Civil Action No. 2:14-cv-0433), D.J. Ref. No. 90-5-1-1-10773. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $4.00 (25 cents per page reproduction cost) payable to the United States Treasury.

Thomas P. Carroll,
Assistant Section Chief, Environmental Enforcement Section, Environment and Natural Resources Division.

[FR Doc. 2014-26241 Filed 11-4-14; 8:45 am]

BILLING CODE 4410-15-P